DEPARTMENT OF COMMERCE

International Trade Administration

[A-580-810]

Welded ASTM A-312 Stainless Steel Pipe From South Korea: Extension of Time Limit for Final Results of Antidumping Duty Administrative Review

AGENCY: Import Administration, International Trade Administration, Department of Commerce.

DATES: Effective Date: April 2, 2009.

FOR FURTHER INFORMATION CONTACT: Jacqueline Arrowsmith or Douglas Kirby, AD/CVD Operations, Office 6, Import Administration, International Trade Administration, Department of Commerce, 14th Street and Constitution Avenue, NW., Washington, DC 20230; telephone: (202) 482-5255 and (202) 482-3782, respectively.

SUPPLEMENTARY INFORMATION:

Background

On December 17, 2008, the Department of Commerce (the Department) issued the preliminary results of the administrative review of the antidumping duty order on ASTM A-312 stainless steel pipe from South Korea. See Certain Welded Stainless Steel Pipes from the Republic of Korea: Preliminary Results of Antidumping Duty Administrative Review, 73 FR 79050 (December 24, 2008). The period of review is December 1, 2006 through November 30, 2007. The final results for this administrative review are currently due no later than April 23, 2009.

Extension of Time Limit for Final Results

Section 751(a)(3)(A) of the Tariff Act of 1930, as amended (the Act), requires the Department to issue the preliminary results of an administrative review within 245 days after the last day of the anniversary month of an antidumping duty order for which a review is requested, and issue the final results within 120 days after the date on which the preliminary results are published. However, if the Department finds it is not practicable to complete the review within the time period, section 751(a)(3)(A) of the Act allows the Department to extend these deadlines to a maximum of 365 days and 180 days, respectively.

The Department needs additional time due to conduct the constructed export price verification and to analyze cost of production issues. Therefore, the Department finds that it is not practicable to complete the final results of the review within the original time limit and is extending the deadline for the completion of the final results for the antidumping duty order on welded ASTM A-312 stainless steel pipe from South Korea from 120 to 180 days from the date of publication of the preliminary results. Accordingly, the final results will now be due no later than June 22, 2009.

This notice is issued and published pursuant to sections 751(a)(3)(A) and 777(i)(1) of the Act.

Dated: March 27, 2009.
John M. Andersen,
Acting Deputy Assistant Secretary for Antidumping and Countervailing Duty Operations.

[FR Doc. E9-7446 Filed 4-1-09; 8:45 am]

BILLING CODE 3510-DS-P